NUCLEAR REGULATORY COMMISSION

[Docket Nos. 50-269, 50-270, 50-287; NRC-2021-0146]

Duke Energy Carolinas, LLC; Oconee Nuclear Station, Units 1, 2, and 3; Subsequent License Renewal and Record of Decision

AGENCY: Nuclear Regulatory Commission.

ACTION: Notice; issuance.

SUMMARY: The U.S. Nuclear Regulatory Commission (NRC) has issued Subsequent Renewed Facility Operating License Nos. DPR-38, DPR-47, and DPR-55 to Duke Energy Carolinas, LLC (Duke Energy or the licensee), for Oconee Nuclear Station, Units 1, 2, and 3 (Oconee Station). In addition, the NRC has prepared a record of decision (ROD) that supports the NRC's decision to issue Subsequent Renewed Facility Operating License Nos. DPR-38, DPR-47, and DPR-55.

DATES: The Subsequent Renewed Facility Operating License DPR-38, DPR-47, and DPR-55 were issued on March 31, 2025.

ADDRESSES: Please refer to Docket ID NRC-2021-0146 when contacting the NRC about the availability of information regarding this document. You may obtain publicly available information related to this document using any of the following methods:

• Federal Rulemaking Website: Go to https://www.regulations.gov and search for Docket ID NRC-2021-0146. Address questions about Docket IDs in Regulations.gov to Bridget Curran; telephone: 301-415-1003; email: Bridget.Curran@nrc.gov. For technical questions, contact the individual listed in the For Further Information Contact section of this document.

• NRC's Agencywide Documents Access and Management System (ADAMS): You may access publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Vaughn Thomas, Office of Nuclear Reactor Regulation, U.S. Nuclear Regulatory Commission, Washington, DC 20555-0001; telephone: 301-415-5897; email: Vaughn.Thomas@nrc.gov.

SUPPLEMENTARY INFORMATION:

I. Discussion

Notice is hereby given that the NRC has issued Subsequent Renewed Facility Operating License Nos. DPR-38, DPR-47, and DPR-55 to Duke Energy for Oconee Station. Duke Energy is the operator of the facility. Subsequent Renewed Facility Operating Nos. DPR-38, DPR-47, and DPR-55 authorize Duke Energy to operate Oconee Station at reactor core power levels not in excess of 2,610 megawatts thermal, in accordance with the provisions of the Oconee Station subsequent renewed operating licenses and technical specifications. Notice is also given that the ROD that supports the NRC's decision to issue Subsequent Renewed Facility Operating License Nos. DPR-38, DPR-47, and DPR-55 is available in the “Availability of Documents” section of this document.

As discussed in the ROD and the final site-specific environmental impact statement (EIS), published as NUREG-1437, Supplement 2, Second Renewal, “Site-Specific Environmental Impact Statement for License Renewal of Nuclear Plants Regarding Subsequent License Renewal for Oconee Nuclear Station Units 1,2 and 3, Final Report,” dated January 31, 2025, the final EIS documents the NRC staff's environmental review, including the determination that the adverse environmental impacts of subsequent license renewal for Oconee Station are not so great that preserving the option of subsequent license renewal for energy planning decisionmakers would be unreasonable. The final EIS conclusion is based on (1) information provided in the environmental report submitted by Duke Energy, as supplemented, (2) the NRC staff's consultations with Federal, State, Tribal, and local agencies, (3) the NRC staff's independent environmental review, and (4) the NRC staff's consideration of public comments received during the scoping process and on the 2024 draft site-specific EIS, as well as the consideration of mitigation measures.

Oconee Nuclear Station, Units 1, 2, and 3 are pressurized light water reactors located on a site situated on the shore of Lake Keowee in Oconee County, approximately eight miles northeast of Seneca, South Carolina. Duke Energy submitted its application for the subsequent renewed licenses, “Oconee Nuclear Station Units 1, 2, and 3 Subsequent License Renewal Application,” dated June 7, 2021, as supplemented (see “Availability of Documents” section, of this document). The NRC staff has determined that Duke Energy's application complies with the standards and requirements of the Atomic Energy Act of 1954, as amended (the Act), and NRC's regulations. As required by the Act and NRC regulations in chapter I of title 10 of the Code of Federal Regulations (10 CFR), the NRC has made appropriate findings, which are set forth in the subsequent renewed licenses.

A public notice of the NRC's acceptance for docketing of the subsequent renewed license application and an opportunity for a hearing was published in the Federal Register on July 28, 2021 (86 FR 40662). Further, a notice of intent to prepare a site-specific EIS and conduct environmental scoping was published on August 10, 2021 (86 FR 43684). On December 19, 2022, the NRC staff issued its Safety Evaluation Report concerning the Oconee Station subsequent license renewal application. In February 2024, the staff issued a draft site-specific EIS for public comment, providing the preliminary results of the staff's environmental evaluation of the Oconee Station SLR application. A notice of availability of the site-specific draft EIS was published in the Federal Register on February 13, 2024 (89 FR 10107). On January 31, 2025, the NRC staff issued a final site-specific EIS, providing its final evaluation of the environmental impacts of Oconee Station subsequent license renewal; a notice of issuance was published in the Federal Register on February 7, 2025 (90 FR 9171).

For further details with respect to this action, see: (1) Duke Energy's subsequent license renewal application for Oconee Station, dated June 7, 2021, as supplemented by letters dated through June 7, 2022; (2) the NRC's safety evaluation report, dated December 19, 2022; (3) the NRC's final EIS (NUREG-1437, Supplement 2, Second Renewal) for Oconee Station dated January 31, 2025; and (4) the NRC's ROD, issued on March 31, 2025.

II. Availability of Documents

The documents identified in the following table are available to interested persons through ADAMS, as indicated.

Document description | ADAMS accession No.
Record of Decision—Subsequent License Renewal Application Review—Oconee Nuclear Station, Units 1, 2 and 3, dated March 31, 2025 | ML25055A147.
Safety Evaluation Report—Subsequent License Renewal Application Review—Oconee Nuclear Station, Units 1, 2, and 3, dated December 19, 2022 | ML22349A117 (Package).
(Redacted) NUREG-1437 DFC, “Site-Specific Environmental Impact Statement for License Renewal of Nuclear Plants, Supplement 2, Second Renewal, Regarding Subsequent License Renewal for Oconee Nuclear Station Units 1, 2, and 3,” dated February 2024 | ML24033A298.
Oconee Nuclear Station, Units 1, 2, and 3, Application for Subsequent Renewed Operating Licenses, dated June 7, 2021 | ML21158A193 (Package).
Oconee Nuclear Station (ONS), Units 1, 2, and 3—Subsequent License Renewal Application, Response to NRC Request for Additional Information B2.1.27-1, dated October 22, 2021 | ML21295A035.
Oconee Nuclear Station (ONS), Units 1, 2 and 3—License Renewal Application Supplement 2, dated November 11, 2021 | ML21315A012.
Oconee Nuclear Station (ONS), Units 1, 2 and 3—Subsequent License Renewal Application Responses to Request for Confirmation of Information—Set #1, dated December 2, 2021 | ML21336A001.
Oconee Nuclear Station (ONS), Units 1, 2 and 3—Subsequent License Renewal Application Supplement 3, dated December 15, 2021 | ML21349A005.
Oconee Nuclear Station, Units 1, 2 and 3—Subsequent License Renewal Application Responses to Request for Confirmation of Information—Set #2, dated December 17, 2021 | ML21351A000.
Oconee Nuclear Station (ONS), Units 1, 2 and 3—Subsequent License Renewal Application Responses to Request for Confirmation of Information—Set #3, dated January 21, 2022 | ML22021A000.
Oconee Nuclear Station (ONS), Units 1, 2 and 3—Subsequent License Renewal Application Responses to Request for Confirmation of Information—Set #4, dated March 22, 2022 | ML22081A027.
Oconee Nuclear Station (ONS), Units 1, 2, and 3—Subsequent License Renewal Application First Annual Amendment To The License Renewal Application And Subsequent License Renewal Application Supplement 4, dated June 7, 2022 | ML22158A028.
Oconee Nuclear Station (ONS), Units 1, 2, and 3—Subsequent License Renewal Application Responses to NRC Request for Additional Information Set 1 and Second Round Request for Additional Information B2.1.27-1a, dated January 7, 2022 | ML22010A129.
Oconee Nuclear Station (ONS), Units 1, 2, and 3—Responses to NRC Request for Additional Information Set 2, dated February 14, 2022 | ML22045A021.
Oconee Nuclear Station (ONS), Units 1, 2, and 3—Subsequent License Renewal Application: Responses to NRC Request for Additional Information Set 3, dated February 21, 2022 | ML22052A002.
Oconee Nuclear Station (ONS), Units 1, 2, and 3—Subsequent License Renewal Application Responses to NRC Request for Additional Information Set 4, dated April 22, 2022 | ML22112A016.
Oconee Nuclear Station (ONS), Units 1, 2, and 3—Subsequent License Renewal Application Second Annual Amendment to the License Renewal Application, dated April 25, 2023 | ML23115A050.
Oconee Nuclear Station (ONS), Units 1, 2, and 3—Subsequent License Renewal Application Third Annual Update to the License Renewal Application and Subsequent License Renewal Application Supplement 5, dated May 24, 2024 | ML24145A069.
Oconee Nuclear Station (ONS), Units 1, 2, and 3—Subsequent License Renewal Application Response to Request for Additional Information 2024 Annual update and Subsequent License Renewal Application Supplement 5 addition, dated July 31, 2024 | ML24213A095.
NUREG-1437, Volume 1, Revision 2, “Generic Environmental Impact Statement for License Renewal of Nuclear Plants,” Final Report, dated August 31, 2024 | ML24086A526.
NUREG-1437, Supplement 2, Second Renewal, “Site-Specific Environmental Impact Statement for License Renewal of Nuclear Plants Supplement 2, Second Renewal Regarding Subsequent License Renewal for Oconee Nuclear Station Units 1, 2, and 3,” Final Report, dated January 31, 2025 | ML25031A307.

Dated: March 31, 2025.
For the Nuclear Regulatory Commission.
Michele Sampson,
Director, Division of New and Renewed Licenses, Office of Nuclear Reactor Regulation.

[FR Doc. 2025-05792 Filed 4-3-25; 8:45 am]

BILLING CODE 7590-01-P